DEPARTMENT OF TRANSPORTATION

Coast Guard

33 CFR Part 140

[USCG-2001-9045]

RIN 2115-AG14

Inspection Under, and Enforcement of, Coast Guard Regulations for Fixed Facilities on the Outer Continental Shelf by the Minerals Management Service

AGENCY: Coast Guard, DOT.

ACTION: Final rule; announcement of effective date.

SUMMARY: Coast Guard is announcing the approval of a collection-of-information requirement allowing the owners or operators of fixed Outer Continental Shelf facilities to retain the forms on which they record their annual inspections, rather than to submit them to the Coast Guard. This will allow the forms to be kept locally and made available to Coast Guard and Minerals Management Service inspectors upon request.

DATES: 33 CFR 140.103(c), as published February 7, 2002 (67 FR 5916), is effective June 7, 2002.

FOR FURTHER INFORMATION CONTACT: If you have questions on this document, call James M. Magill, Vessel and Facility Operating Standards Division (G-MSO-2), telephone 202-267-1082 or fax 202-267-4570. If you have questions on viewing the docket, call Dorothy Beard, Chief, Dockets, Department of Transportation, telephone 202-366-5149.

SUPPLEMENTARY INFORMATION: The final rule published in the Federal Register on February 7, 2002, at 67 FR 5912 was to become effective on June 7, 2002, except for revised paragraph (c) of 33 CFR 140.103. Revised paragraph (c) contained a collection-of-information requirement allowing forms CG-5432 (the annual self-inspection reports for fixed Outer Continental Shelf facilities) to be kept locally, rather than to be submitted to the Coast Guard Officer in Charge, Marine Inspection. This paragraph could not become effective until its collection-of-information requirement was approved by the Office of Management and Budget (OMB). This paragraph was approved by OMB in control no. 2115-0569 on March 12, 2002, and is effective on June 7, 2002, the effective date of the final rule.

Dated: April 8, 2002.
Joseph J. Angelo,
Director of Standards, Marine Safety, Security, and Environmental Protection.

[FR Doc. 02-9110 Filed 4-15-02; 8:45 am]

BILLING CODE 4910-15-P